DEPARTMENT OF COMMERCE

National Oceanic and Atmospheric Administration

50 CFR Part 679

[Docket No. 210217-0022; RTID 0648-XB722]

Fisheries of the Exclusive Economic Zone Off Alaska; Groundfish in the Red King Crab Savings Subarea of the Bering Sea and Aleutian Islands Management Area

AGENCY: National Marine Fisheries Service (NMFS), National Oceanic and Atmospheric Administration (NOAA), Commerce.

ACTION: Temporary rule; closure.

SUMMARY: NMFS is prohibiting directed fishing for groundfish by vessels using nonpelagic trawl gear in the Red King Crab Savings Subarea of the Bering Sea and Aleutian Islands management area (BSAI). This action is necessary because the State of Alaska, Department of Fish and Game did not established a guideline harvest level fishery for red king crab in the Bristol Bay area for the 2021/2022 fishing year.

DATES: Effective 1200 hours, Alaska local time (A.l.t.), January 20, 2022, through 2400 hours, A.l.t., December 31, 2022.

FOR FURTHER INFORMATION CONTACT: Mary Furuness, 907-586-7447.

SUPPLEMENTARY INFORMATION: NMFS manages the groundfish fishery in the BSAI according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

In accordance with § 679.21(e)(3)(ii)(B)(1), this action is necessary because the State of Alaska, Department of Fish and Game did not established a guideline harvest level fishery for red king crab in the Bristol Bay area for the 2021/2022 fishing year. Consequently, the Regional Administrator is prohibiting directed fishing for groundfish by vessels using nonpelagic trawl gear in the Red King Crab Savings Subarea of the BSAI.

While this closure is effective the maximum retainable amounts at § 679.20(e) and (f) apply at any time during a trip.

Classification

NMFS issues this action pursuant to section 305(d) of the Magnuson-Stevens Act. This action is required by 50 CFR part 679, which was issued pursuant to section 304(b), and is exempt from review under Executive Order 12866.

Pursuant to 5 U.S.C. 553(b)(B), there is good cause to waive prior notice and an opportunity for public comment on this action, as notice and comment would be impracticable and contrary to the public interest, as it would prevent NMFS from responding to the most recent fisheries data in a timely fashion and would delay the directed fishing closure of groundfish by vessels using nonpelagic trawl gear in the Red King Crab Savings Subarea of the BSAI. NMFS was unable to publish a notification providing time for public comment because the most recent, relevant data only became available as of January 1, 2022.

The Assistant Administrator for Fisheries, NOAA also finds good cause to waive the 30-day delay in the effective date of this action under 5 U.S.C. 553(d)(3). This finding is based upon the reasons provided above for waiver of prior notice and opportunity for public comment.

Authority: 16 U.S.C. 1801 et seq.

Dated: January 11, 2022.
Ngagne Jafnar Gueye,
Acting Director, Office of Sustainable Fisheries, National Marine Fisheries Service.

[FR Doc. 2022-00739 Filed 1-14-22; 8:45 am]

BILLING CODE 3510-22-P